DEPARTMENT OF COMMERCE

National Oceanic and Atmospheric Administration

Agency Information Collection Activities; Submission to the Office of Management and Budget (OMB) for Review and Approval; Comment Request; Alaska Community Quota Entity (CQE) Program

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on July 15, 2025 during a 60-day comment period. This notice allows for an additional 30 days for public comments.

Agency: National Oceanic and Atmospheric Administration, Commerce.

Title: Alaska Community Quota (CQE) Program.

OMB Control Number: 0648-0665.

Form Number(s): None.

Type of Request: Regular submission [revision and extension of a current information collection].

Number of Respondents: 62.

Average Hours per Response: Application for a Non-profit Corporation to be Designated as a CQE: 200 hours; Transfer applications: 2 hours; Application for a CQE to Receive a Non-trawl Groundfish LLP License: 20 hours; Application for Community Charter Halibut Permit: 1 hour; CQE Annual Report: 40 hours; CQE LLP Authorization Letter: 1 hour.

Total Annual Burden Hours: 1,355 hours.

Needs and Uses: This is a request for revision and extension of an approved information collection. The National Marine Fisheries Service (NMFS), Alaska Regional Office (AKR), is the sponsor of this information collection. This information collection contains applications, permits, and reports required under the Community Quota Entity (CQE) Program. The revision to this collection incorporates minor updates for clarity and regulatory accuracy. These changes to the forms include updating the Public Reporting Burden Statement to include the form's specific purpose and updating website links. Additionally, the “Application for Transfer of Quota Share to or from a Community Quota Entity” form was updated to include the correct the language from “The party to whom a CQE is seeking to transfer the IFQ must hold a Transfer Eligibility Certificate (TEC) unless they are a resident of the Aleutian Islands (Adak) for at least 12 months” to “The party to whom a CQE is seeking to transfer the IFQ must hold a Transfer Eligibility Certificate (TEC) unless they hold an Aleutian Islands (Adak) TEC.” This change accurately reflects current regulations and requirements. No other changes were made to the collection other than adjustments to reflect the most current available data.

NMFS AKR manages the groundfish fisheries in the exclusive economic zone of the Bering Sea and Aleutian Islands management area under the Fishery Management Plan for Groundfish of the Bering Sea and Aleutian Islands Management Area. The Magnuson-Stevens Fishery Conservation and Management Act (16 U.S.C. 1801 et seq.) authorizes the North Pacific Fishery Management Council to prepare and amend fishery management plans for any fishery in waters under its jurisdiction. The International Pacific Halibut Commission (IPHC) and NMFS AKR manage fishing for Pacific halibut (Hippoglossus stenolepis) through regulations established under the authority of the Northern Pacific Halibut Act of 1982, 16 U.S.C. 773c (Halibut Act).

The CQE Program is a Federal program administered by NMFS. The CQE Program allocates to eligible communities in Alaska a portion of the harvest quotas for groundfish, halibut, crab, and prohibited species. The allocations provide these communities the means for starting or supporting commercial fisheries activities that will result in an ongoing, regionally based, fisheries-related economy. Participating communities are represented by a CQE, which is a NMFS-approved non-profit organization.

Under the Pacific Halibut and Sablefish Individual Fishing Quota (IFQ) Program, a CQE may purchase commercial Halibut and sablefish quota share (QS) for lease to residents of the eligible community. Under the Charter Halibut Limited Access Program, a CQE may request community charter halibut permits for use in southeast Alaska and the central Gulf of Alaska by charter vessel operators designated by the CQE. Under the License Limitation Program (LLP), a CQE may request non-trawl groundfish LLP licenses endorsed for Pacific cod in the central or western Gulf of Alaska for use on vessels designated by the CQE. More information on the CQEs and the CQE Program is provided on the NMFS Alaska Region website at https://www.fisheries.noaa.gov/alaska/sustainable-fisheries/community-quota-and-license-programs-community-quota-entities.

This information collection is required in Federal regulations at 50 CFR 300 Subpart E and Part 679. The eligible communities and the community governing body that recommends the CQE are listed in Table 21 to 50 CFR part 679.

This collection contains applications used by a nonprofit corporation to become a CQE; by CQEs to receive non-trawl groundfish LLP licenses and Charter Halibut Permits (CHPs); by CQEs to transfer or receive IFQ QS; by CQEs to transfer IFQ to an eligible community resident or non-resident; and by CQEs to transfer between commercial halibut IFQ and halibut guided angler fish (GAF). In addition, this collection contains two reporting requirements: an annual report and an authorization letter. Annually each CQE must submit a report describing its business operations and fishing activities for each eligible community it represents. CQEs requesting LLP groundfish licenses must annually submit an authorization letter that assigns each community LLP license to a user and vessel.

The type of information collected includes information on the applicants, transferors, transferees, authorized representatives, and communities represented, as well as information on the procedures, criteria, administrative activities, business operations, community fishing activities, sweep-up information, certificate and licensing information, and fishing activities pertaining to the application.

NMFS requires this information for fisheries management and to evaluate the ability of a specific CQE to represent an eligible community. NMFS uses the information collected to establish eligibility of the CQEs; review each CQE's business operations and fishing activity; monitor participation of the eligible communities in the CQE Program and associated limited access programs; and gather information on distribution and use among these communities of LLP groundfish licenses, CHPs, and halibut and sablefish QS and IFQ.

All of the forms, except for the Application for Community Charter Halibut Permit at § 300.67(k), can now be submitted electronically via email. These forms will be updated accordingly to clarify that electronic submission is allowed.

Affected Public: Not-for-profit institutions; Individuals or households.

Frequency: Annually and occasionally.

Respondent's Obligation: Required to Obtain or Retain Benefits.

Legal Authority: Magnuson-Stevens Fishery Conservation and Management Act (16 U.S.C. 1801 et seq.); The Northern Pacific Halibut Act of 1982 (16 U.S.C. 773c).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0665.

Sheleen Dumas,
Department PRA Compliance Officer, Office of the Under Secretary for Economic Affairs, Commerce Department.

[FR Doc. 2025-23767 Filed 12-22-25; 8:45 am]

BILLING CODE 3510-22-P